DEPARTMENT OF TRANSPORTATION

Federal Aviation Administration

14 CFR Part 39

[Docket No. 2004-NM-10-AD; Amendment 39-13447; AD 2004-03-03]

RIN 2120-AA64

Airworthiness Directives; Fokker Model F.28 Mark 0070 and 0100 Series Airplanes

AGENCY: Federal Aviation Administration, DOT.

ACTION: Final rule; request for comments.

SUMMARY: This amendment adopts a new airworthiness directive (AD) that is applicable to certain Fokker Model F.28 Mark 0070 and 0100 series airplanes. This action requires revising the applicable airplane flight manual to provide the flightcrew with more restrictive procedures for operating in icing conditions. This action is necessary to ensure that the flightcrew is aware of the procedures required to prevent ice from contacting the ice impact panels on the engine fan case. Such contact could result in a panel coming loose during flight and blocking the bypass flow through the engine outlet guide vanes, and consequent reduction of the engine thrust, resulting in insufficient thrust to maintain flight. This action is intended to address the identified unsafe condition.

DATES: Effective February 18, 2004. Comments for inclusion in the Rules Docket must be received on or before March 4, 2004.

ADDRESSES: Submit comments in triplicate to the Federal Aviation Administration (FAA), Transport Airplane Directorate, ANM-114, Attention: Rules Docket No. 2004-NM-10-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2004-NM-10-AD” in the subject line and need not be submitted in triplicate. Comments sent via fax or the Internet as attached electronic files must be formatted in Microsoft Word 97 or 2000 or ASCII text.

Information pertaining to this AD may be examined at the FAA, Transport Airplane Directorate, Rules Docket, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: The Civil Aviation Authority—The Netherlands (CAA-NL), which is the airworthiness authority for the Netherlands, notified the FAA that an unsafe condition may exist on certain Fokker Model F.28 Mark 0070 and 0100 series airplanes. The CAA-NL advises that it has received reports of two incidents of separation of ice impact panels from the engine fan case during flight. One incident involved a Model F.28 Mark 0070 airplane and the other incident involved a Model F.28 Mark 0100 airplane. The affected airplanes were operating in severe icing conditions; ice released from the engine inlet or wing and ingested into the engine has not been excluded as a factor contributing to the separation of the ice impact panels. The CAA-NL has determined that such incidents warrant temporary measures and that the applicable airplane flight manual (AFM) should be revised to provide the flightcrew with the procedures they must follow to prevent ice from contacting the ice impact panels on the engine fan case. Such contact could result in a panel coming loose during flight and blocking the bypass flow through the engine outlet guide vanes, and consequent reduction of the engine thrust, resulting in insufficient thrust to maintain flight.

The CAA-NL issued Dutch airworthiness directive 2004-004, dated January 15, 2004, to ensure the continued airworthiness of these airplanes in the Netherlands.

FAA's Conclusions

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. The FAA has examined the findings of the CAA-NL, reviewed all available information, and determined that AD action is necessary for products of this type design that are certificated for operation in the United States.

Explanation of Requirements of Rule

Since an unsafe condition has been identified that is likely to exist or develop on other airplanes of the same type design registered in the United States, this AD is being issued to ensure that the flightcrew is aware of the actions they must take to prevent ice from contacting the ice impact panels on the engine fan case. Such contact could result in a panel coming loose during flight and blocking the bypass flow through the engine outlet guide vanes, and consequent reduction of the engine thrust, resulting in insufficient thrust to maintain flight. This AD requires revising the Normal Procedures Section, “Operation in Icing Conditions,” and the Limitations Section, “Weather Limitations,” of the applicable airplane flight manual to provide the flightcrew with more restrictive procedures for operating in icing conditions.

Interim Action

We consider this AD interim action. If final action is later identified, we may consider further rulemaking at that time.

Difference Between Dutch Airworthiness Directive and This Rule

The Dutch airworthiness directive mandates doing the AFM revision before the next flight of the airplane. This AD allows operators 7 days after the effective date of this AD to complete the required AFM revision. In developing an appropriate compliance time for this AD, we considered the CAA-NL's recommendation, as well as the degree of urgency associated with the subject unsafe condition. In light of these factors, we find that a 7-day compliance time represents an appropriate interval of time for affected airplanes to continue to operate without compromising safety.

The Dutch airworthiness directive also specifies that the AFM revision be placed in the Normal Procedures Section of the applicable AFM. This AD requires placement of the AFM revision in both the Normal Procedures Section and the Limitations Section of the applicable AFM. It is our intention that operators be required to follow the procedures specified in the AFM revision and the Limitations Section is the only section of the AFM that is mandatory, per section 91.9 of the Code of Federal Regulations (14 CFR part 91.9).

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2004-NM-10-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-03 Fokker Services B.V.: Amendment 39-13447. Docket 2004-NM-10-AD.

Applicability: Model F.28 Mark 0070 and 0100 series airplanes; certificated in any category; equipped with Rolls-Royce Tay620 or Tay650 series engines and having incorporated Rolls-Royce Service Bulletin Tay 72-1326, Revision 1, dated January 16, 1998.

Compliance: Required as indicated, unless accomplished previously.

To ensure that the flightcrew is aware of the procedures required to prevent ice from contacting the ice impact panels on the engine fan case, which could result in a panel coming loose during flight and blocking the bypass flow through the engine outlet guide vanes, and consequent reduction of the engine thrust, resulting in insufficient thrust to maintain flight, accomplish the following:

Airplane Flight Manual (AFM) Revision

(a) Within 7 days after the effective date of this AD: Revise the Normal Procedures Section, “Operation in Icing Conditions,” and the Limitations Section, “Weather Limitations,” by inserting the procedures specified in Appendix 1 of this AD into the applicable AFM. Thereafter, operate the airplane per the procedures specified in the AFM revision.

Note 1: When procedures identical to those in Appendix 1 of this AD have been incorporated into the general revisions of the AFM, the general revisions may be incorporated into the AFM, and Appendix 1 of this AD may be removed from the AFM.

Alternative Methods of Compliance

(b) In accordance with 14 CFR 39.19, the Manager, International Branch, ANM-116, Transport Airplane Directorate, FAA, is authorized to approve alternative methods of compliance for this AD.

Note 2: The subject of this AD is addressed in Dutch airworthiness directive 2004-004, dated January 15, 2004.

Effective Date

(c) This amendment becomes effective on February 18, 2004.

APPENDIX 1.

“(a) Engine anti-icing must be switched ON during all ground or flight operations when the Total Air Temperature (TAT) is below +6 degrees C (+42 degrees F) down to and including −25 degrees C (−13 degrees F), irrespective of the presence of visible moisture; and

(b) Airframe anti-icing system must be switched ON during flight operations whenever any of the following conditions is valid:

(1) Icing conditions are anticipated or present; In-flight, icing conditions are present when TAT is below +6 degrees C (+42 degrees F) down to an including −25 degrees C (−13 degrees F) and visible moisture is present.

(2) Ice buildup is observed;

(3) The ICING alert comes on.”

Issued in Renton, Washington, on January 28, 2004.
Kalene C. Yanamura,
Acting Manager, Transport Airplane Directorate, Aircraft Certification Service.

[FR Doc. 04-2106 Filed 2-2-04; 8:45 am]

BILLING CODE 4910-13-P